DEPARTMENT OF LABOR

Employment and Training Administration

Agency Information Collection Activities; Comment Request; Workforce Innovation Fund Grants Reporting and Recordkeeping Requirements

ACTION: Notice.

SUMMARY: The Department of Labor (DOL), Employment and Training Administration (ETA) is soliciting comments concerning a proposed extension for the authority to conduct the information collection request (ICR) titled, “Workforce Innovation Fund Grants Reporting and Recordkeeping Requirements.” This comment request is part of continuing Departmental efforts to reduce paperwork and respondent burden in accordance with the Paperwork Reduction Act of 1995 (PRA), 44 U.S.C. 3501 et seq.

DATES: Consideration will be given to all written comments received by February 21, 2017.

ADDRESSES: A copy of this ICR with applicable supporting documentation; including a description of the likely respondents, proposed frequency of response, and estimated total burden may be obtained free by contacting Wendy Havenstrite by telephone at (202) 693-2618, TTY 1-877-889-5627, (these are not toll-free numbers or by email at havenstrite.wendy@dol.gov.

Submit written comments about, or requests for a copy of, this ICR by mail or courier to the U.S. Department of Labor, Employment and Training Administration, 200 Constitution Avenue NW., Washington, DC 20210; by email: havenstrite.wendy@dol.gov; or by Fax 202-693-3817.

FOR FURTHER INFORMATION CONTACT: Contact Wendy Havenstrite by telephone at (202) 693-2618 (this is not a toll-free number) or by email at havenstrite.wendy@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Workforce Innovation Fund (WIF) was created as a grant program by the Full-Year Continuing Appropriations Act, 2011 (in Sec. 1801, Title VIII, Div. B of Pub. L. 112-10), the Consolidated and Further Continuing Appropriations Act, 2013 (Pub. L. 113-6), and the Consolidated Funding Act, 2014 (Pub. L. 113-76). The first round of grants was awarded in June 2012, with service delivery beginning in 2013. (The first round of grants are ending by the current ICR end date). The second round of grants, awarded September 2014, were awarded to a combination of state workforce agencies and local workforce investment boards and began service delivery in 2015. The final round of grants, awarded in September 2015, went to five States and one tribal entity with service delivery beginning in 2016. According to these Acts, the WIF was established to “carry out projects that demonstrate innovative strategies or replicate effective evidence-based strategies that align and strengthen the workforce investment system in order to improve program delivery and education and employment outcomes for program beneficiaries.” One of the purposes of the WIF grants is to contribute to the documentation of evidence-based practice within the field of workforce development.

This document requests approval to continue to collect information to meet the reporting and recordkeeping requirements of the WIF grant program through the end of each grantee's reporting cycle. In applying for the WIF grant program, grantees agreed to submit quarterly reports—both narrative and performance reports—that describe project activities and outcomes that relate to the project and document the training or labor market information approaches used by the grantee. The quarterly performance narrative report will provide a format for a detailed account of program activities, accomplishments, and progress toward performance outcomes during the quarter. These reports will collect aggregate information on participants' grant progress and accomplishments, grant challenges, grant technical assistance needs and success stories and lessons learned through five questions—four programmatic questions and one performance question. Because WIF grants tackle a range of employment and training services and strategies, each grant will have a unique set of performance goals and outcome measures designed by the grantee for the specific innovation and project being pursued in the grant. The fifth of the five questions in the quarterly performance narrative report will ask for performance data based on the unique grant performance measures and key project milestones identified by each grantee.

The information from these reports will be used to evaluate the performance of the WIF projects; manage performance risk; and collect lessons learned in terms of processes, strategies, and performance from the projects. ETA will use the data to help inform policy about the workforce and possible changes in structures and policies that enable a closer alignment and integration of workforce development, education, human services, social insurance, and economic development programs. The data will also be used to determine what technical assistance needs the WIF grantees have so that ETA can provide such assistance to support improvement of grantee outcomes.

The information provided in the quarterly performance narrative reports, including the lessons learned through innovative projects, is necessary for increasing the body of knowledge about what works in workforce development. This information collection maintains a reporting and record-keeping system for a minimum level of information collection that is necessary to hold WIF grantees appropriately accountable for the Federal funds they receive and to allow the Department to fulfill its oversight and management responsibilities.

To reduce grantee burden, grantees will only report on performance measures they identify in their project that are specifically applicable to their grant. This approach minimizes the reporting burden on grantees and encourages grantees to identify and document a new set of achievements and performance measures that apply directly to the grant projects. The Full-Year Continuing Appropriations Act, 2011 (in Sec. 1801, Title VIII, Div. B of Pub. L. 112-10), the Consolidated and Further Continuing Appropriations Act, 2013 (Pub. L. 113-6), and the Consolidated Funding Act, 2014 (Pub. L. 113-76) authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Workforce Innovation Fund Grants Reporting and Recordkeeping Requirements, OMB Control Number 1205-0515.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Workforce Innovation Fund Grants Reporting and Recordkeeping Requirements.

Form: Quarterly narrative and performance reports.

OMB Control Number: 1205-0515.

Affected Public: Workforce Innovation Fund grant recipients.

Estimated Number of Respondents: 17.

Frequency: Quarterly.

Total Estimated Annual Responses: 68.

Estimated Average Time per Response: 20 hours.

Estimated Total Annual Burden Hours: 1,360 hours.

Total Estimated Annual Other Cost Burden: $0.

Authority: 44 U.S.C. 3506(c)(2)(A).

Portia Wu,
Assistant Secretary for Employment and Training Administration, Department of Labor.

[FR Doc. 2016-30922 Filed 12-22-16; 8:45 am]

BILLING CODE 4510-FN-P